NATIONAL AERONAUTICS AND SPACE ADMINISTRATION

[Notice 00-088]

Agency Information Collection: Submission for OMB Review; Comment Request

AGENCY: National Aeronautics and Space Administration (NASA).

SUMMARY: The National Aeronautics and Space Administration has submitted to the Office of Management and Budget (OMB) the following proposal for the collection of information under the provisions of the Paperwork Reduction Act (44 U.S.C. Chapter 35).

DATES: Comments on this proposal should be received on or before August 31, 2000.

ADDRESSES: All comments should be addressed to Mr. Richard Kall, Code HK, National Aeronautics and Space Administration, Washington, DC 20546-0001.

FOR FURTHER INFORMATION CONTACT: Ms. Carmela Simonson, NASA Reports Officer, (202) 358-1223.

Title: Uncompensated Overtime.

OMB Number: 2700-0080.

Type of review: Extension.

Need and Uses: For contracts over $500,000, uncompensated overtime information is used to determine (i) whether a contractor will be able to hire and retain qualified individuals, (ii) whether uncompensated overtime hours will be properly accounted, and (iii) the validity of the proposed uncompensated hours.

Affected Public: Business or other for-profit.

Number of Respondents: 650.

Responses Per Respondent: 1.

Annual Responses: 650.

Hours Per Request: 3.25.

Annual Burden Hours: 2113.

Frequency of Report: Annually.

David B. Nelson,
Deputy Chief Information Officer, Office of the Administrator.

[FR Doc. 00-19334 Filed 7-31-00; 8:45 am]

BILLING CODE 7510-01-P